DEPARTMENT OF AGRICULTURE

Forest Service

Umatilla National Forest; Columbia and Garfield Counties, WA; Notice of Intent To Prepare a Supplemental Environmental Impact Statement (SEIS) To Amend the Umatilla National Forest Land and Resource Management Plan for the Purposes of Implementing the School Fire Salvage Recovery Project

AGENCY: Forest Service, USDA.

ACTION: Notice of intent to prepare a supplemental environmental impact statement.

SUMMARY: The Umatilla National Forest Supervisor is proposing a non-significant amendment to the Umatilla National Forest Land and Resource Management Plan (LRMP) as amended by Regional Forester Amendment #2 (“Eastside Screens”) to include a definition of “live” trees for the School Fire Salvage Recovery Project. The proposed amendment would adopt a scientific metod for determining live trees.

DATES: Under 40 CFR 1502.9(c)(4), there is no formal scoping period for this proposed action. The supplemental draft environmental impact statement is expected March 1, 2007 and the final environmental impact statement is expected June 1, 2007.

ADDRESSES: Send written comments to the Responsible Official, Kevin Martin, Forest Supervisor, Umatilla National Forest, 2517 S.W. Hailey Avenue, Pendleton, OR 97801. Send electronic comments to: comments-pacificnorthwest-umatilla@fs.fed.us.

FOR FURTHER INFORMATION CONTACT: Dean R. Millett, Project Team Leader, Pomeroy Ranger District, 71 West Main Street, Pomeroy, WA 99347, phone (509) 843-1891, e-mail: dmillett@fs.fed.us.

SUPPLEMENTARY INFORMATION:

Purpose and Need for Action

The Umatilla NF needs “to salvage harvest [bured timber] as rapidly as practicable before decay and other wood deterioration occurs to maximize potential economic benefits” as identified in School Fire Recovery Project FEIS at 1-4. The 9th Court of Appeals recently held in The Lands Council, No. 06-35781 (9th Cir.) (Feb. 12, 2007) that the term “live tree” includes all trees that are not dead, giving the term its plain meaning. Op. at 12. This definition, which does not reflect the Forest Service practice and interpretation that a live tree must be expected to live greater than five years (citation), prevents the achievement of the need stated above.

The Proposed Action would amend the Forest Plan for the School Project Area to adopt a definition of “live” and allow the School Fire Recovery Project Record of Decision to be fully implemented.

Proposed Action

The Umatilla National Forest Supervisor proposes a non-significant Forest Plan amendment to Regional Forester's Amendment #2 to the Umatilla LRMP (“Eastside Screens”) to include a definition of “live” trees as used in the wildlife standard No. 6d.2)a). This amendment would apply only to the School Fire Salvage Recovery Project on the Pomeroy Ranger District.

The amended standard would read as follows: (a) Maintain all remnant late and old seral and/or structural live trees ≥21″ diameter at breast height that currently exist within stands proposed for harvest activities. A live tree is defined as a tree rated to have a high probability to survive the effects of a fire as determined by the “Factors Affecting Survival of Fire Injured Trees: A Rating System for Determining Relative Probability of Survival of Conifers in the Blue and Wallowa Mountains” (Scott et al. 2002, as amended) (commonly referred to as the Scott Guidelines).

Responsible Official

Kevin Martin, Forest Supervisor, Umatilla National Forest, 2517 S.W. Hailey Avenue, Pendleton, OR 97801.

Nature of Decision To Be Made

To amend the Umatilla LRMP as proposed or take no action at this time.

Scoping Process

No scoping will be conducted for this SEIS pursuant to 40 CFR 1502.9(c)(4).

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and address of those who comment, will be considered part of the public record on this proposal and will be available for public inspection.

(Authority: 40 CFR 1501.7 and 1508.22; Forest Service Handbook 1909.15, Section 21)

Dated: February 20, 2007.
Kevin Martin,
Forest Supervisor.

[FR Doc. 07-841 Filed 2-23-07; 8:45 am]

BILLING CODE 3410-11-M